DEPARTMENT OF TRANSPORTATION

Federal Aviation Administration

Public Notice for Waiver of Aeronautical Land-Use Assurance; Marshfield Municipal Airport, Marshfield, WI

AGENCY: Federal Aviation Administration, DOT.

ACTION: Notice of intent of waiver with respect to land.

SUMMARY: The Federal Aviation Administration (FAA) is considering a proposal to authorize the release of 24.89 acres of the airport property at the Marshfield Municipal Airport, Marshfield WI. The WisDOT issued a Categorical Exclusion for the release on March 25, 2011.

The acreage being released is not needed for aeronautical use as currently identified on the Airport Layout Plan.

The acreage comprising of parcels 38 and 39 were originally acquired under Grant Nos. ADAP 7-55-0039-01. The City of Marshfield (Wisconsin), as airport owner, has concluded that the subject airport land is not needed for expansion of airport facilities. There are no impacts to the airport by allowing the airport to dispose of the property. The airport will receive the appraised fair market value of $68,000 for the land in addition to Parcels 40 and 41 as identified on the Exhibit A Property Map. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before May 23, 2012.

ADDRESSES: Mr. Andrew J. Peek, Program Manager, Federal Aviation Administration, Airports District Office, 6020 28th Avenue South, Suite 102, Minneapolis, MN 55450-2706. Telephone Number (612) 253-4640/Fax Number (612) 253-4611. Documents reflecting this FAA action may be reviewed at this same location or at the Wisconsin Department of Transportation, 4802 Sheboygan Ave., Room 701, Madison, WI 53707.

FOR FURTHER INFORMATION CONTACT: Mr. Andrew J. Peek, Program Manager, Federal Aviation Administration, Airports District Office, 6020 28th Avenue South, Suite 102, Minneapolis, MN 55450-2706. Telephone Number (612) 253-4640/Fax Number (612) 253-4611. Documents reflecting this FAA action may be reviewed at this same location or at the Wisconsin Department of Transportation, 4802 Sheboygan Ave., Room 701, Madison, WI 53707.

SUPPLEMENTARY INFORMATION: Following is a legal description of the subject airport property to be released at Marshfield Municipal Airport in Marshfield, Wisconsin and described as follows:

Parcel 38: Outlot 1 of Wood County Certified Survey Map Number 9215, as recorded in Volume 32 of the Certified Survey Maps of Wood County on Page 115 as Document Number 2010R11200, being a part of the Southwest quarter of the Southeast quarter of Section 18, Township 25 North, Range 3 East, in the City of Marshfield, Wood County, Wisconsin; and

Parcel 39: Lot 1 of Wood County Certified Survey Map Number 9215, as recorded in Volume 32 of the Certified Survey Maps of Wood County on Page 115 as Document Number 2010R11200, being part of the Northeast quarter of the fractional Southwest quarter of the fractional Southwest quarter of Section 18, Township 25 North, Range 3 East, in the City of Marshfield, Wood County, Wisconsin.

Said parcel subject to all easements, restrictions, and reservations of record.

Issued in Minneapolis, MN, on March 21, 2012.
Steven J. Obenauer,
Manager, Minneapolis Airports District Office FAA, Great Lakes Region.

[FR Doc. 2012-9678 Filed 4-20-12; 8:45 am]

BILLING CODE 4910-13-P